DEPARTMENT OF HOMELAND SECURITY

Coast Guard

33 CFR Part 165

[Docket No. USCG-2025-0782]

Safety Zones; Fireworks Displays in the USCG East District (Formerly the Fifth Coast Guard District)—Beach Haven, NJ

AGENCY: Coast Guard, DHS.

ACTION: Notification of enforcement of regulation.

SUMMARY: The Coast Guard will enforce a safety zone in Little Egg Harbor, NJ, to provide for the safety of life on navigable waterways during a barge-based fireworks display. Our regulation for marine events within the USCG East District (formerly the Fifth Coast Guard District) identifies the boundaries of the regulated area. During the enforcement period, no person or vessel may enter, remain in, or transit through the regulated area, and anyone in the vicinity must comply with directions from the Patrol Commander or any Official Patrol displaying a Coast Guard ensign.

DATES: The safety zone identified in entry 7 of table 1 to paragraph (h)(1) of 33 CFR 165.506 will be enforced from 9:00 p.m. through 10:15 p.m. on August 30, 2025.

FOR FURTHER INFORMATION CONTACT: If you have questions about this notification of enforcement, call or email Petty Officer Dominick Dobridge, U.S. Coast Guard, Sector Delaware Bay, Waterways Management Division, telephone 206-815-6688, option 3, or email SecDelBayWWM@uscg.mil.

SUPPLEMENTARY INFORMATION: The Coast Guard will enforce the safety zone in entry 7 of table 1 to paragraph (h)(1) to 33 CFR 165.506 from 9:00 p.m. through 10:15 p.m. on August 30, 2025. This enforcement period varies from the July dates provided in the table, but the enforcement periods for each safety zone in paragraph (h) of § 165.506 are subject to change, as noted in 33 CFR 165.506(c).

Activating the enforcement period is necessary to ensure safety of life on the navigable waters of the United States immediately prior to, during, and immediately after a barge-based fireworks display approximately 50 yards north of Parker Island, in Little Egg Harbor, NJ. The regulated area includes all waters of Little Egg Harbor within a 500-yard radius of the fireworks barge position. The approximate position for the barge is latitude 39°34′18.77″ N, longitude 074°14′36.2″ W. During the enforcement period, as reflected in § 165.506(d), vessels may not enter, remain in, or transit through the safety zone unless authorized by the Captain of the Port or designated Coast Guard patrol personnel on-scene.

In addition to this notification in the Federal Register, the Coast Guard will provide notice of this enforcement period via Local Notice to Mariners and Broadcast Notice to Mariners.

Dated: August 21, 2025.
Kate F. Higgins-Bloom,
Captain, U.S. Coast Guard, Captain of the Port, Sector Delaware Bay.

[FR Doc. 2025-16567 Filed 8-27-25; 8:45 am]

BILLING CODE 9110-04-P